DEPARTMENT OF JUSTICE

Notice of Lodging of Proposed Consent Decree Under the Comprehensive Environmental Response, Compensation and Liability Act

On February 7, 2013, the Department of Justice filed a complaint and lodged a proposed Consent Decree with the United States District Court for the Northern District of Florida, Gainesville Division in the lawsuit entitled United States of America v. Beazer East, Inc. Civil Action No. 1:13cv29-SPM-GRJ.

Pursuant to Sections 106 and 107(a) of the Comprehensive Environmental Response, Compensation, and Liability Act (CERCLA), 42 U.S.C. 9606, 9607(a), the United States' complaint sought to recover costs it has incurred and will incur in response to the release and threatened release of hazardous substances at or from the Cabot/Koppers Superfund Site, located in the City of Gainesville, Alachua County, Florida (the Site). The United States also sought an Order enjoining the Defendant to perform the remedial action at the Site selected by EPA in the Amended Record of Decision dated February 2011 (Amended ROD) and included as Appendix A to the Decree.

The United States has agreed to resolve the claims alleged in the complaint through the proposed Consent Decree in which Beazer will perform the Amended ROD at the Site. In the Decree, Beazer has also agreed to pay all of EPA's future costs including oversight costs. The United States covenants not to sue under CERCLA Sections 106 and 107 relating to the Site subject to statutory reopeners.

The publication of this notice opens a period for public comment on the Consent Decree. Comments should be addressed to the Assistant Attorney General, Environment and Natural Resources Division, and should refer to United States of America v. Beazer East, Inc. Civil Action No. 1:13cv29-SPM-GRJ; D.J. Ref. No. 90-11-2-622/1. All comments must be submitted no later than thirty (30) days after the publication date of this notice. Comments may be submitted either by email or by mail:

| Send them to:
By email | pubcomment-ees.enrd@usdoj.gov.
By mail | Assistant Attorney General, U.S. DOJ-ENRD, P.O. Box 7611, Washington, DC 20044-7611.

During the public comment period, the Consent Decree may be examined and downloaded at this Justice Department Web site: http://www.usdoj.gov/enrd/Consent_Decrees.html. We will provide a paper copy of the Consent Decree upon written request and payment of reproduction costs. Please mail your request and payment to: Consent Decree Library, U.S. DOJ-ENRD, P.O. Box 7611, Washington, DC 20044-7611.

Please enclose a check or money order for $253.75 (25 cents per page reproduction costs for 1,015 pages for the entire Decree plus appendices) payable to the United States Treasury. For a paper copy without the Decree appendices, the cost is $28.75 (25 cents per page reproduction costs for 115 pages).

Henry Friedman,
Assistant Chief, Environmental Enforcement Section, Environment and Natural Resources Division.

[FR Doc. 2013-03313 Filed 2-12-13; 8:45 am]

BILLING CODE 4410-15-P